DEPARTMENT OF THE INTERIOR

Bureau of Land Management

[212 LLUTY02000 L17110000.PN0000 LXSSJ0650000]

Notice of Public Meeting, Bears Ears National Monument Advisory Committee, Utah

AGENCY: Bureau of Land Management, Interior.

ACTION: Notice of public meetings.

SUMMARY: In accordance with the Federal Land Policy and Management Act, as amended, the Federal Advisory Committee Act, and the Federal Lands Recreation Enhancement Act, the U.S. Department of the Interior, Bureau of Land Management's (BLM) Bears Ears National Monument Advisory Committee will meet as indicated below.

DATES: The Bears Ears National Monument Advisory Committee will hold virtual meetings on June 29-30, 2022, and September 13, 2022, and an in-person meeting on December 7, 2022. All meetings will occur from 8:00 a.m. to 3:00 p.m. Public comments will be received at 1:30 p.m. each meeting day. The meetings are open to the public.

ADDRESSES: The agenda and meeting access information (including how to log in and participate in virtual meetings) will be announced on the Bears Ears National Monument Advisory Committee web page 30 days before the meeting at https://go.usa.gov/xu3Uf. The December meeting will be held in-person at the Hideout (648 South Hideout Way, Monticello, UT 84535), unless there are COVID-19 restrictions in place, in which case the meeting will be held virtually. Any changes from an in-person to virtual meeting will be posted on the Bears Ears National Monument Advisory Committee web page.

FOR FURTHER INFORMATION CONTACT: Rachel Wootton, Canyon Country District Public Affairs Officer, P.O. Box 7, Monticello, Utah 84535, via email with the subject line “BENM MAC” to blm_ut_mt_mail@blm.gov, or by calling the Monticello Field Office at (435) 587-1500. Individuals in the United States who are deaf, deafblind, hard of hearing, or have a speech disability may dial 711 (TTY, TDD, or TeleBraille) to access telecommunications relay services. Individuals outside the United States should use the relay services offered within their country to make international calls to the point-of-contact in the United States. Please contact us for reasonable accommodations to participate.

SUPPLEMENTARY INFORMATION: Presidential Proclamation 9558 and Presidential Proclamation 10285 established the Bears Ears National Monument Advisory Committee to provide advice and information to the Secretary of the Interior through the Director of the BLM, and to the Secretary of the U.S. Department of Agriculture (USDA) through the Chief of the USDA Forest Service, to consider for managing the Bears Ears National Monument. The 15-member committee represents a wide range of interests including local and state government, paleontological and archaeological expertise, the conservation community, livestock grazing permittees, Tribal members, developed and dispersed recreation interests, private landowners, local business owners, and the public at large.

Planned agenda items for the June meeting include administrative business; resource conditions and trends, uses, activities, and preliminary alternative management strategies for the Bears Ears National Monument; and an overview of the planning process. Planned agenda items for the September meeting include Monument planning updates, an overview of the scoping process, and identification and discussion of potential issues to consider in the planning process. Planned agenda items for the December meeting include a discussion on the draft environmental impact statement and potential alternatives for the Resource Management Plan.

A public comment period will be offered during these meetings. Depending on the number of people wishing to comment and the time available, the time for individual comments may be limited. Written comments may also be sent to the Monticello Field Office at the address listed in the FOR FURTHER INFORMATION CONTACT section of this notice. All comments received prior to the meeting will be provided to the Bears Ears National Monument Advisory Committee.

Before including your address, phone number, email address, or other personal identifying information in your comment, you should be aware that your entire comment—including your personal identifying information—may be made publicly available at any time. While you can ask us in your comment to withhold your personal identifying information from public review, we cannot guarantee that we will be able to do so.

Detailed minutes for the Bears Ears National Monument Advisory Committee meeting will be maintained in the Canyon Country District Office and will be available for public inspection and reproduction during regular business hours within 90 days following the meeting. Minutes will also be posted to the Bears Ears National Monument Advisory Committee web page.

Authority: 43 CFR 1784.4-2.

Gregory Sheehan,
State Director.

[FR Doc. 2022-11980 Filed 6-2-22; 8:45 am]

BILLING CODE 4310-DQ-P